DEPARTMENT OF LABOR

Employment and Training Administration

[NAFTA 4132]

Nova Bus, Inc., Roswell, New Mexico; Notice of Termination of Investigation

Pursuant to section 221 of the Trade Act of 1974, an investigation was initiated on September 1, 2000, in response to a petition filed by the company on behalf of workers at Nova Bus, Inc., Roswell, New Mexico.

The petitioner has requested that the petition be withdrawn. Consequently, further investigation in this case would serve no purpose, and the investigation has been terminated.

Signed in Washington, DC this 20th day of November, 2000.
Linda G. Poole,
Certifying Officer, Division of Trade Adjustment Assistance.

[FR Doc. 00-30617 Filed 11-30-00; 8:45 am]

BILLING CODE 4510-30-M